DEPARTMENT OF ENERGY

Federal Energy Regulatory Commission

Combined Notice of Filings #1

Take notice that the Commission received the following electric corporate filings:

Docket Numbers: EC25-56-000.

Applicants: Strategic PPAV, LLC, Birdsboro Power LLC.

Description: Joint Application for Authorization Under Section 203 of the Federal Power Act of Strategic PPAV, LLC, et al.

Filed Date: 2/18/25.

Accession Number: 20250218-5329.

Comment Date: 5 p.m. ET 3/11/25.

Take notice that the Commission received the following electric rate filings:

Docket Numbers: ER23-2688-005.

Applicants: NRG Business Marketing LLC.

Description: Compliance filing: Compliance Filing of Tariff Records to Implement Settlement Rates to be effective 4/4/2024.

Filed Date: 2/18/25.

Accession Number: 20250218-5289.

Comment Date: 5 p.m. ET 3/11/25.

Docket Numbers: ER25-331-002.

Applicants: Southwestern Public Service Company.

Description: Compliance filing: 2025.02.19—Compliance Filing for Prod 898 to be effective 1/1/2025.

Filed Date: 2/19/25.

Accession Number: 20250219-5039.

Comment Date: 5 p.m. ET 3/12/25.

Docket Numbers: ER25-1149-001.

Applicants: PJM Interconnection, L.L.C.

Description: Tariff Amendment: Amendment of GIA, SA No. 7505; AF2-031 in Docket No. ER25-1149-001 to be effective 1/3/2025.

Filed Date: 2/19/25.

Accession Number: 20250219-5124.

Comment Date: 5 p.m. ET 3/12/25.

Docket Numbers: ER25-1325-000.

Applicants: PJM Interconnection, L.L.C.

Description: Request a Shortened 10-Day Comment Period and Expediated Action on a Prospective Waiver of PJM Interconnection, L.L.C.

Filed Date: 2/14/25.

Accession Number: 20250214-5256.

Comment Date: 5 p.m. ET 2/24/25.

Docket Numbers: ER25-1338-000.

Applicants: Flat Fork Solar, LLC.

Description: § 205(d) Rate Filing: Application for Market-Based Rate Authorization to be effective 4/20/2025.

Filed Date: 2/18/25.

Accession Number: 20250218-5299.

Comment Date: 5 p.m. ET 3/11/25.

Docket Numbers: ER25-1339-000.

Applicants: Forgeview Solar, LLC.

Description: § 205(d) Rate Filing: Application for Market-Based Rate Authorization to be effective 4/20/2025.

Filed Date: 2/18/25.

Accession Number: 20250218-5300.

Comment Date: 5 p.m. ET 3/11/25.

Docket Numbers: ER25-1340-000.

Applicants: Wildwood Solar, LLC.

Description: § 205(d) Rate Filing: Application for Market-Based Rate Authorization to be effective 4/20/2025.

Filed Date: 2/18/25.

Accession Number: 20250218-5304.

Comment Date: 5 p.m. ET 3/11/25.

Docket Numbers: ER25-1341-000.

Applicants: Kentucky Utilities Company.

Description: § 205(d) Rate Filing: APCO KU Borderline Agreement Revised Appendix B to be effective 2/1/2025.

Filed Date: 2/19/25.

Accession Number: 20250219-5034.

Comment Date: 5 p.m. ET 3/12/25.

Docket Numbers: ER25-1342-000.

Applicants: Second Imperial Geothermal Company L.P.

Description: Initial Rate Filing: Petition for Approval of Initial Market-Based Rate Tariff to be effective 4/21/2025.

Filed Date: 2/19/25.

Accession Number: 20250219-5065.

Comment Date: 5 p.m. ET 3/12/25.

Docket Numbers: ER25-1343-000.

Applicants: Alliant Energy Corporate Services, Inc.

Description: Compliance filing: Supplemental Update to Capacity Commitment Transaction to be effective 11/7/2024.

Filed Date: 2/19/25.

Accession Number: 20250219-5138.

Comment Date: 5 p.m. ET 3/12/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: February 19, 2025.
Carlos D. Clay,
Deputy Secretary.

[FR Doc. 2025-03039 Filed 2-24-25; 8:45 am]

BILLING CODE 6717-01-P